DEPARTMENT OF ENERGY

Federal Energy Regulatory Commission

Combined Notice of Filings #2

Take notice that the Commission received the following electric rate filings:

Docket Numbers: ER10-1476-001.

Applicants: Tampa Electric Company.

Description: Supplemental Information of Tampa Electric Company.

Filed Date: 11/10/11.

Accession Number: 20111110-5170.

Comments Due: 5 p.m. ET 12/28/11.

Docket Numbers: ER10-2331-001; ER10-2343-001; ER10-2320-001; ER10-2322-002; ER10-2326-001; ER10-2327-002; ER10-2330-001.

Applicants: J.P. Morgan Ventures Energy Corporation.

Description: Supplement to Updated Market Power Analysis and Order Nos. 697 and 697-A Compliance Filing of the JPMorgan Sellers.

Filed Date: 12/7/11.

Accession Number: 20111207-5019.

Comments Due: 5 p.m. ET 12/28/11.

Docket Numbers: ER12-559-000.

Applicants: Golden Valley Wind Park, LLC.

Description: Golden Valley Category 2 Compliance Filing to be effective 12/7/2011.

Filed Date: 12/7/11.

Accession Number: 20111207-5066.

Comments Due: 5 p.m. ET 12/28/11.

Docket Numbers: ER12-560-000.

Applicants: Milner Dam Wind Park, LLC.

Description: Milner Dam Category 2 Compliance Filing to be effective 12/7/2011.

Filed Date: 12/7/11.

Accession Number: 20111207-5067.

Comments Due: 5 p.m. ET 12/28/11.

Docket Numbers: ER12-561-000.

Applicants: Oregon Trail Wind Park, LLC.

Description: Oregon Trail Category 2 Compliance Filing to be effective 12/7/2011.

Filed Date: 12/7/11.

Accession Number: 20111207-5070.

Comments Due: 5 p.m. ET 12/28/11.

Docket Numbers: ER12-562-000.

Applicants: Pilgrim Stage Station Wind Park, LLC.

Description: Pilgrim Stage Category 2 Compliance Filing to be effective 12/7/2011.

Filed Date: 12/7/11.

Accession Number: 20111207-5076.

Comments Due: 5 p.m. ET 12/28/11.

Docket Numbers: ER12-563-000.

Applicants: Thousand Springs Wind Park, LLC.

Description: Thousand Springs Category 2 Compliance Filing to be effective 12/7/2011.

Filed Date: 12/7/11.

Accession Number: 20111207-5077.

Comments Due: 5 p.m. ET 12/28/11.

Docket Numbers: ER12-564-000.

Applicants: Tuana Gulch Wind Park, LLC.

Description: Tuana Gulch Category 2 Compliance Filing to be effective 12/7/2011.

Filed Date: 12/7/11.

Accession Number: 20111207-5078.

Comments Due: 5 p.m. ET 12/28/11.

Docket Numbers: ER12-565-000.

Applicants: Camp Reed Wind Park, LLC.

Description: Camp Reed Category 2 Compliance Filing to be effective 12/7/2011.

Filed Date: 12/7/11.

Accession Number: 20111207-5083.

Comments Due: 5 p.m. ET 12/28/11.

Docket Numbers: ER12-566-000.

Applicants: Payne's Ferry Wind Park, LLC.

Description: Payne's Ferry Category 2 Compliance Filing to be effective 12/7/2011.

Filed Date: 12/7/11.

Accession Number: 20111207-5088.

Comments Due: 5 p.m. ET 12/28/11.

Docket Numbers: ER12-567-000.

Applicants: Salmon Falls Wind Park, LLC.

Description: Salmon Falls Category 2 Compliance Filing to be effective 12/7/2011.

Filed Date: 12/7/11.

Accession Number: 20111207-5101.

Comments Due: 5 p.m. ET 12/28/11.

Docket Numbers: ER12-568-000.

Applicants: Yahoo Creek Wind Park, LLC.

Description: Yahoo Creek Category 2 Compliance Filing to be effective 12/7/2011.

Filed Date: 12/7/11.

Accession Number: 20111207-5105.

Comments Due: 5 p.m. ET 12/28/11.

Take notice that the Commission received the following foreign utility company status filings:

Docket Numbers: FC12-5-000.

Applicants: Bangkok Cogeneration Co., Ltd.

Description: Self-Certification of FC of Bangkok Cogeneration Co., Ltd.

Filed Date: 12/7/11.

Accession Number: 20111207-5093.

Comments Due: 5 p.m. ET 12/28/11.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 7, 2011.
Nathaniel J. Davis, Sr.,
Deputy Secretary.

[FR Doc. 2011-32150 Filed 12-14-11; 8:45 am]

BILLING CODE 6717-01-P